SOCIAL SECURITY ADMINISTRATION

20 CFR Parts 404 and 416

[Docket No. SSA 2006-0182]

RIN 0960-AG29

Age as a Factor in Evaluating Disability

AGENCY: Social Security Administration.

ACTION: Proposed rules; withdrawal.

SUMMARY: We are withdrawing the proposed rules entitled “Age as a Factor in Evaluating Disability” that we published in the Federal Register on November 4, 2005.

DATES: The proposed rules published on November 4, 2005 at 70 FR 67101 are withdrawn as of May 8, 2009.

FOR FURTHER INFORMATION CONTACT: Richard Bresnick, Social Insurance Specialist, Office of Regulations, Social Security Administration, 6401 Security Boulevard, Baltimore, MD 21235-6401. Call (410) 965-1758 for information about this notice. For information on eligibility or filing for benefits, call our national toll-free number 1-(800) 772-1213 or TTY 1-(800) 325-0778. You may also contact Social Security Online at http://www.socialsecurity.gov.

SUPPLEMENTARY INFORMATION:

Electronic Version

The electronic file of this document is available on the date of publication in the Federal Register at http://www.gpoaccess.gov/fr/index.html.

Background

In the notice of proposed rulemaking (NPRM) we published in the Federal Register on November 4, 2005, we proposed to revise by 2 years the age categories we use as one of the criteria in determining disability under titles II and XVI of the Social Security Act. The proposed rules reflected our adjudicative experience, advances in medical treatment and healthcare, changes in the workforce since we originally published our rules for considering age in 1978, and current and future increases in the full retirement age under Social Security law. (70 FR at 67101.) We received almost 900 public comments on the NPRM. We have decided to withdraw the proposal while we continue to consider public comments and other relevant data sources.

Dated: May 1, 2009.
Michael J. Astrue,
Commissioner of Social Security.

[FR Doc. E9-10733 Filed 5-7-09; 8:45 am]

BILLING CODE 4191-02-P